DEPARTMENT OF TRANSPORTATION

Federal Highway Administration

[Docket No. FHWA-2012-0063]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION. We are required to publish this notice in the Federal Register by the Paperwork Reduction Act of 1995.

DATES: Please submit comments by August 27, 2012.

ADDRESSES: You may submit comments identified by DOT Docket ID 2012-0063 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: James A. Cheatham, james.cheatham@dot.gov, 202-366-6221, Office of Planning, Environment, and Realty, Federal Highway Administration, Department of Transportation, 1200 New Jersey Avenue SE., Washington, DC, 20590. Office hours are from 7:45 a.m. to 4:15 p.m., Monday through Friday, except Federal holidays.

SUPPLEMENTARY INFORMATION: Title: Assessment of Transportation Planning Agency Needs, Capabilities, and Capacity.

Background: FHWA will collect information on the current state of the practice, data, methods, and systems used by state, metropolitan, regional, local, and tribal transportation planning entities to support their required planning process in accordance with Title 23 United States Code 134 and 135. This includes, but is not limited to, information to support transportation research, capacity building, data collection, planning, travel modeling, and performance management. This also includes information about how data is shared between planning agencies and how it is processed and used in the planning context. Questionnaires will be sent to State DOT headquarters and districts, Metropolitan Planning, Organizations, Regional Planning Organizations, and Tribal Governments. FHWA anticipates that one representative from each agency will take approximately 30 minutes to complete up to 4 questionnaires each year. The questionnaires will be administered via the Internet and invitations to participate in the questionnaire will be distributed via email.

This information, once compiled, will allow the FHWA to better understand the existing capabilities that agencies across the country have in support of the planning process and the readiness they possess to handle new and ongoing challenges. As a result of the collected information, FHWA will focus its efforts and resources on providing targeted and meaningful support for planning and readiness nationwide. Additionally, FHWA will ensure that excellent planning practices are identified will be shared broadly across the country.

Respondents: Respondents are representatives of State DOT headquarters and districts, Metropolitan Planning, Organizations, Regional Planning Organizations, and Tribal Governments.

Respondents: 950 respondents annually.

Frequency: 4 per year for 3 years.

Estimated Average Burden per Response: Approximately 30 minutes.

Estimated Total Annual Burden Hours: Up to 1,900 hours annually.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of computer technology, without reducing the quality of the collected information. The agency will summarize and/or include your comments in the request for OMB's clearance of this information collection.

Authority: The Paperwork Reduction Act of 1995; 44 U.S.C. Chapter 35, as amended; and 49 CFR 1.48.

Issued on: June 22, 2012.
Steven Smith,
Chief, Information Technology Division.

[FR Doc. 2012-15921 Filed 6-27-12; 8:45 am]

BILLING CODE 4910-22-P